DEPARTMENT OF ENERGY

Federal Energy Regulatory Commission

[Docket Nos. ER99-970-001; ER00-38-001; ER97-4586-004; ER97-1431-011; and ER99-972-004]

RockGen Energy LLC; Broad River Energy LLC; DePere Energy LLC; PEC Energy Marketing, Inc.; SkyGen Energy Marketing LLC; Notice of Filing

November 15, 2000.

Take notice that on November 2, 2000, RockGen Energy LLC, Broad River Energy LLC, DePere Energy LLC, PEC Energy Marketing, Inc., and SkyGen Energy Marketing LLC (collectively, the SkyGen Marketers), tendered for filing a Notification of Change in Status. The Notification of Change in Status is intended to inform the Commission that pursuant to Calpine Corporation's (Calpine) purchase of 100 percent of the outstanding shares of Polsky Energy Corporation, the ultimate owner of the SkyGen Marketers, the SkyGen Marketers have completed their change in ownership and are now affiliated with Calpine.

Any person desiring to be heard or to protest such filing should file a motion to intervene or protest with the Federal Energy Regulatory Commission, 888 First Street, N.E., Washington, D.C. 20426, in accordance with Rules 211 and 214 of the Commission's Rules of Practice and Procedure (18 CFR 395.211 and 385.214). All such motions and protests should be filed on or before November 23, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 00-29687 Filed 11-20-00; 8:45 am]

BILLING CODE 6717-01-M